DEPARTMENT OF ENERGY

National Nuclear Security Administration

Request for Information Regarding Establishment of the Department of Energy Uranium Reserve Program

AGENCY: National Nuclear Security Administration, Department of Energy.

ACTION: Reopening of the public comment period.

SUMMARY: The Department of Energy (DOE) published the Request for information (RFI) to invite public comment on topics related to the Establishment of the DOE's Uranium Reserve program on August 11, 2021. Through this notice, DOE announces the reopening of the Uranium Reserve RFI comment period for an additional 30 days. The August 11, 2021 Federal Register notice mistakenly listed an option for online submissions via www.regulations.gov, but that option is not available at this time. Comments can be submitted via email or postal mail through the instructions in the ADDRESSES section.

DATES: The comment period for the RFI published on August 11, 2021 (86 FR 44007), which closed on September 10, 2021, is hereby reopened. DOE will accept written comments, data, information in response no later than October 13, 2021.

ADDRESSES: Interested persons may submit comments by any of the following methods:

Email: rfi-uranium@hq.doe.gov. Submit electronic comments in Microsoft Word or PDF file format and avoid the use of special characters or any form of encryption. Please include “Response to Uranium Reserve RFI” in the subject line.

Postal Mail: Response to Uranium Reserve RFI, c/o Mr. Kyle Fowler, U.S. Department of Energy, National Nuclear Security Administration, Mailstop NA-10, 1000 Independence Avenue SW, Washington, DC 20585-0121.

Instructions: All submissions received must include the agency name for this request for information. No facsimiles (faxes) will be accepted.

Note: The Government has posted a parallel RFI to SAM.gov in order invite industry comment on topics related to establishment of the DOE's Uranium Reserve program. To avoid duplicate submissions, interested parties are encouraged to only respond to one of the notices.

FOR FURTHER INFORMATION CONTACT: Requests for further information should be sent to: rfi-uranium@hq.doe.gov or Mr. Kyle Fowler, (202) 586-1963. If responding by email, please include “Question on Uranium Reserve RFI” in the subject line.

SUPPLEMENTARY INFORMATION: The U.S. Department of Energy (DOE or the Department) issued this RFI to invite public comment on topics related to establishment of the DOE's Uranium Reserve program. DOE is re-opening the comment period on this RFI to provide ample time for interested parties to respond.

Background

In the United States (U.S.), nuclear energy provides more than 55 percent of our clean energy and supports about half a million American jobs. However, the U.S. nuclear industry and the nuclear fuel supply chain face significant challenges that have left domestic nuclear fuel suppliers in a weakened position on the domestic and global stage. Revitalizing the U.S. nuclear fuel supply infrastructure would support the Administration's goals described in the American Jobs Plan,¹ including addressing the climate crisis, creating American jobs, positioning the U.S. to compete with economic rivals, and supporting national security. It would support environmental justice initiatives, prioritize addressing long-standing and persistent racial injustice by targeting 40 percent of the benefits of climate and clean infrastructure investments to disadvantaged communities, consider rural communities and communities impacted by the market-based transition to clean energy, and include meaningful stakeholder engagement.

¹ https://www.whitehouse.gov/briefing-room/statements-releases/2021/03/31/fact-sheet-the-american-jobs-plan/.

In December 2020, Congress passed the Consolidated Appropriations Act, 2021 (Pub. L. 116-260) that makes $75,000,000 available to the Department for the Uranium Reserve Program. The Department is considering options to acquire natural uranium and convert this uranium into uranium hexafluoride that would be stored at commercial facilities in the United States.

In considering options, the Department will focus on reinvigorating domestic nuclear fuel supply chain capabilities, utilizing existing facilities, and minimizing negative disruption of market mechanisms. The Department expects the acquisition of natural uranium to result in new uranium production at existing domestic sites. The Department does not intend such new production to initiate or expand mining on Tribal lands, expand the Office of Legacy Management's (LM) Uranium Leasing Program, or expand access to additional uranium deposits located on other Federal lands. Additionally, the Department does not intend to acquire uranium or uranium hexafluoride produced from enricher underfeeding, the re-enrichment of tails, or other sources that do not support the reinvigoration of uranium production and conversion capabilities. Likewise, the Department expects to use existing domestic commercial conversion capabilities and store the uranium hexafluoride at a domestic facility.

The Department will comply with all applicable laws, including the National Environmental Policy Act and the National Historic Preservation Act, in the proposed establishment of a uranium reserve. In addition, the Department will give careful attention to energy justice, distributive impacts, and other relevant issues in its decision-making process. This program would include meaningful engagement with stakeholders, including State, local, Tribal governments, and disadvantaged communities.

The Department is publishing this RFI to gain a better understanding of Tribal and other disadvantaged communities and stakeholder views on topics related to the establishment of a uranium reserve. Responses to the RFI will inform the Department's establishment of a uranium reserve, as well as the development of a procurement strategy for acquisition of uranium, conversion services, and storage.

Signing Authority

This document of the Department of Energy was signed on September 7, 2021, by Dr. Charles Verdon, Deputy Administrator for Defense Programs for the National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 8, 2021.
Treena V. Garrett,
Federal Register Liaison Officer, U.S. Department of Energy.

[FR Doc. 2021-19701 Filed 9-10-21; 8:45 am]

BILLING CODE 6450-01-P